DEPARTMENT OF TRANSPORTATION

Federal Motor Carrier Safety Administration

[Docket No. FMCSA-2012-0161]

Qualification of Drivers; Exemption Applications; Vision

AGENCY: Federal Motor Carrier Safety Administration (FMCSA), DOT.

ACTION: Notice of applications for exemptions; request for comments.

SUMMARY: FMCSA announces receipt of applications from 13 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before August 15, 2012.

ADDRESSES: You may submit comments bearing the Federal Docket Management System (FDMS) Docket No. FMCSA-2012-0161 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 13 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Joseph E. Brunette

Mr. Brunette, age 43, has had a retinal detachment in his right eye since 1999. The visual acuity in his right eye is light perception only, and in his left eye, 20/20. Following an examination in 2012, his optometrist noted, “In my medical opinion, Mr. Joseph Brunette has sufficient vision to perform the driving tasks required to operate a commercial vehicle.” Mr. Brunette reported that he has driven tractor-trailer combinations for 7 years, accumulating 560,000 miles. He holds a Class A Commercial Driver's License (CDL) from California. His driving record for the last 3 years shows one crash, which he was not cited for, and one conviction for speeding in a CMV; he exceeded the speed limit by 5 mph.

William C. Christy

Mr. Christy, 68, has had acute zonal occult outer retinopathy and a central scotoma in his right eye since 2007. The best corrected visual acuity in his right eye is 20/100, and in his left eye, 20/20. Following an examination in 2012, his ophthalmologist noted, “It is my opinion based on my exam of Mr. Christy, his visual field testing and his driving history that he is safe to drive a commercial vehicle without restriction.” Mr. Christy reported that he has driven straight trucks for 46 years, accumulating 46,000 miles, and tractor-trailer combinations for 46 years, accumulating 552,000 miles. He holds a Class A CDL from Florida. His driving record for the last 3 years shows no crashes and no convictions for moving violations in a CMV.

Anthony A. Gibson, Jr.

Mr. Gibson, 51, has had an enucleation of his left eye since 1992. The best corrected visual acuity in his right eye is 20/15. Following an examination in 2012, his optometrist noted, “I believe Tony has sufficient vision to perform the driving tasks required to operate a commercial vehicle.” Mr. Gibson reported that he has driven straight trucks for 11 years, accumulating 330,000 miles, and tractor-trailer combinations for 20 years, accumulating 500,000 miles. He holds a Class A CDL from Illinois. His driving record for the last 3 years shows no crashes and no convictions for moving violations in a CMV.

Rickey W. Goins

Mr. Goins, 52, has had amblyopia in his left eye since childhood. The best corrected visual acuity in his right eye is 20/20, and in his left eye, 20/70. Following an examination in 2012, his optometrist noted, “It is my professional opinion that Mr. Goins has sufficient vision to perform the driving tasks required to operate a commercial vehicle.” Mr. Goins reported that he has driven straight trucks for 5 years, accumulating 260,000 miles, and tractor-trailer combinations for 11 years, accumulating 1.4 million miles. He holds a Class A CDL from Tennessee. His driving record for the last 3 years shows no crashes and no convictions for moving violations in a CMV.

Michael J. Hoffarth

Mr. Hoffarth, 37, has had atrophic scarring in the macula of his right eye since 2000. The best corrected visual acuity in his right eye is 20/70, and in his left eye, 20/20. Following an examination in 2012, his optometrist noted, “In my medical opinion, I certify that Michael has sufficient vision to perform the driving tasks required to operate a commercial vehicle.” Mr. Hoffarth reported that he has driven straight trucks for 1 year, accumulating 30,000 miles, and tractor-trailer combinations for 11 years, accumulating 1 million miles. He holds a Class A CDL from Washington. His driving record for the last 3 years shows no crashes but one conviction for speeding in a CMV; he exceeded the speed limit by 11 mph.

Boyd M. Kinzer, Jr.

Mr. Kinzer, 62, has had macular scarring in his right eye due to a traumatic injury sustained in 1994. The best corrected visual acuity in his right eye is 20/60, and in his left eye, 20/20. Following an examination in 2011, his optometrist noted, “In my opinion, Mr. Kinzer has the visual ability necessary to operate a commercial vehicle.” Mr. Kinzer reported that he has driven straight trucks for 3 years, accumulating 27,000 miles, and buses for 1 year, accumulating 9,000 miles. He holds a Class D operator's license from Tennessee. His driving record for the last 3 years shows two crashes, which he was not cited for, and no convictions for moving violations in a CMV.

Jason N. Moore

Mr. Moore, 34, has had amblyopia and strabismus in his left eye since childhood. The visual acuity in his right eye is 20/20, and in his left eye, 20/80. Following an examination in 2012, his optometrist noted, “In my opinion, he is visually capable of safely operating a commercial motor vehicle.” Mr. Moore reported that he has driven straight trucks for 8 years, accumulating 328,000 miles. He holds a Class A CDL from Virginia. His driving record for the last 3 years shows no crashes but one conviction for speeding in a CMV; he exceeded the speed limit by 15 mph.

Dennis M. Rubeck

Mr. Rubeck, 65, has complete loss of vision in his left eye due to a traumatic accident sustained during childhood. The best corrected visual acuity in his right eye is 20/15. Following an examination in 2012, his optometrist noted, “In my medical opinion Dennis Mark Rubeck has sufficient vision to perform the driving tasks required to operate a commercial vehicle.” Mr. Rubeck reported that he has driven straight trucks for 12 years, accumulating 720,000 miles, and tractor-trailer combinations for 18 years, accumulating 1.4 million miles. He holds a Class A CDL from Wyoming. His driving record for the last 3 years shows no crashes and no convictions for moving violations in a CMV.

Leon F. Stephens

Mr. Stephens, 61, has had macular scarring in his left eye since 1984. The best corrected visual acuity in his right eye is 20/15, and in his left eye, 20/400. Following an examination in 2012, his optometrist noted, “In my opinion, Mr. Stephens has adequate vision to safely perform the task of driving and operating a commercial vehicle.” Mr. Stephens reported that he has driven straight trucks for 6 years, accumulating 60,000 miles, and tractor-trailer combinations for 42 years, accumulating 2.5 million miles. He holds a Class A CDL from Colorado. His driving record for the last 3 years shows no crashes and no convictions for moving violations in a CMV.

Clayton L. Schroeder

Mr. Schroeder, 62, has had amblyopia in his left eye since birth. The best corrected visual acuity in his right eye is 20/20, and in his left eye, light perception only. Following an examination in 2011, his optometrist noted, “I believe, in my professional opinion, that Mr. Schroeder has adequate vision to operate a commercial vehicle.” Mr. Schroeder reported that he has driven tractor-trailer combinations for 12 years, accumulating 900,000 miles. He holds a Class A CDL from Minnesota. His driving record for the last 3 years shows no crashes but one conviction for a moving violation in a CMV; he failed to obey a traffic sign.

James C. Sharp

Mr. Sharp, 51, has had corneal scarring in his left eye since 1990. The visual acuity in his right eye is 20/25, and in his left eye, 20/400. Following an examination in 2012, his ophthalmologist noted, “I, Thomas A. Armstrong, M.D., certify that in my medical opinion, Mr. James C. Sharp does have sufficient vision to perform the driving tasks required to operate a commercial vehicle.” Mr. Sharp reported that he has driven straight trucks for 5 years, accumulating 5,000 miles. He holds a Class C operator's license from Pennsylvania. His driving record for the last 3 years shows no crashes and no convictions for moving violations in a CMV.

Ronald J. VanHoof

Mr. VanHoof, 60, has loss of vision in his left eye due to a central retinal vein occlusion that occurred in 2001. The best corrected visual acuity in his right eye is 20/20, and in his left eye, count fingers vision. Following an examination in 2012, his optometrist noted, “His visual condition is stable, and in my medical opinion has sufficient vision to perform the driving tasks required to operate a commercial vehicle.” Mr. VanHoof reported that he has driven tractor-trailer combinations for 43 years, accumulating 3.2 million miles. He holds a Class A CDL from Washington. His driving record for the last 3 years shows no crashes and no convictions for moving violations in a CMV.

Scott C. Westphal

Mr. Westphal, 31, has macular scarring in his right eye due to a traumatic accident sustained in childhood. The visual acuity in his right eye is hand motion vision, and in his left eye, 20/20. Following an examination in 2011, his optometrist noted, “In summary, it is my medical opinion that Scott is able to perform the driving tasks required to operate a commercial vehicle based on the visual requirements.” Mr. Westphal reported that he has driven tractor-trailer combinations for 12 years, accumulating 960,000 miles. He holds a Class A CDL from Minnesota. His driving record for the last 3 years shows no crashes and no convictions for moving violations in a CMV.

Request for Comments

In accordance with 49 U.S.C. 31136(e) and 31315, FMCSA requests public comment from all interested persons on the exemption petitions described in this notice. The Agency will consider all comments received before the close of business August 15, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: July 9, 2012.
Larry W. Minor,
Associate Administrator for Policy.

[FR Doc. 2012-17267 Filed 7-13-12; 8:45 am]

BILLING CODE 4910-EX-P